NUCLEAR REGULATORY COMMISSION

Advisory Committee on Reactor Safeguards; Meeting of the Joint ACRS Subcommittees on Reliability and Probabilistic Risk Assessment and Human Factors; Notice of Meeting

The ACRS Subcommittees on Reliability and Probabilistic Risk Assessment (PRA) and Human Factors will hold a joint meeting on June 28, 2006, Room T-2B3, 11545 Rockville Pike, Rockville, Maryland.

The entire meeting will be open to public attendance.

The agenda for the subject meeting shall be as follows:

Wednesday, June 28, 2006—8:30 a.m. until 3 p.m.

The joint Subcommittees will review three current human reliability assessment issues: the ATHEANA User's Guide, the application of ATHEANA to pressurized thermal shock, and comments received on the HRA Methods Evaluation NUREG. The Subcommittee will hear presentations by and hold discussions with representatives of the NRC staff and industry regarding this matter. The Subcommittees will gather information, analyze relevant issues and facts, and formulate proposed positions and actions, as appropriate, for deliberation by the full Committee.

Members of the public desiring to provide oral statements and/or written comments should notify the Designated Federal Official, Mr. Eric A. Thornsbury (Telephone: 301-415-8716) five days prior to the meeting, if possible, so that appropriate arrangements can be made. Electronic recordings will be permitted.

Further information regarding this meeting can be obtained by contacting the Designated Federal Official between 7:30 a.m. and 4:15 p.m.(ET). Persons planning to attend this meeting are urged to contact the above named individual at least two working days prior to the meeting to be advised of any potential changes to the agenda.

Dated: May 18, 2006.
Michael R. Snodderly,
Acting Branch Chief, ACRS/ACNW.

[FR Doc. E6-8033 Filed 5-24-06; 8:45 am]

BILLING CODE 7590-01-P